DEPARTMENT OF ENERGY

[Docket No. EA-260-B]

Application To Voluntarily Transfer Export Authority EPCOR Merchant and Capital (U.S.) Inc.

AGENCY: Office Electricity Delivery and Energy Reliability, DOE.

ACTION: Notice of Application.

SUMMARY: EPCOR Merchant and Capital (U.S.) Inc. (EMC) has applied to voluntarily transfer to EPCOR Energy Marketing (U.S.) Inc. (EEM) its authority to transmit electric energy from the United States to Canada pursuant to section 202(e) of the Federal Power Act.

DATES: Comments, protests or requests to intervene must be submitted on or before September 8, 2006.

ADDRESSES: Comments, protests or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On April 8, 2002, the Department of Energy (DOE) issued Order No. EA-260 authorizing EMC to transmit electric energy from the United States to Canada as a power marketer using existing international electric transmission facilities. That two-year authorization expired on April 8, 2004. On July 8, 2004, DOE received an application from EMC to renew its authorization to transmit electric energy from the United States to Canada. On October 13, 2004, that renewal was granted in Order No. EA-260-A and will expire on April 9, 2009.

On July 13, 2006, DOE received an application from EMC to voluntarily transfer its export authority to EEM. EEM was formed to assume the duties previously undertaken by EMC, including the exporting of electric energy to Canada. EEM is a Delaware corporation with its principal place of business in Calgary, Alberta, Canada. EEM is an indirect, wholly-owned subsidiary of EPCOR Utilities Inc. of Edmonton, Alberta, Canada. EEM is a power marketer that does not own or control any electric generation or transmission facilities nor does it have a franchised service territory in the United States.

In OE Docket No. EA-260-B, EEM proposes to export electric energy to Canada and to arrange for the delivery of those exports over the international transmission facilities currently owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, and Vermont Electric Transmission Company and Vermont Electric Transmission Co.

The construction of each of the international transmission facilities to be utilized by EEM, as more fully described in its application, has previously been authorized by a Presidential permit issued pursuant to Executive Order 10485, as amended.

The applicant has requested expedited processing of this application so that it may proceed with the proposed transfer. Accordingly, DOE has shortened the public comment period to 15 days.

Procedural Matters: Any person desiring to become a party to this proceeding or to be heard by filing comments or protests to this application should file a petition to intervene, comment or protest at the address provided above in accordance with 385.211 or 385.214 of the Federal Energy Regulatory Commission's Rules of Practice and Procedures (18 CFR 385.211, 385.214). Fifteen copies of each petition and protest should be filed with the DOE on or before the date listed above.

Comments on the EMC application to voluntarily transfer their export authorization to EEM should be clearly marked with Docket EA-260-B. Additional copies are to be filed directly with Lee Bui, Transaction Accounting Assistant, EPCOR Energy Marketing (U.S.) Inc., EPCOR Place, 8th Floor, 505 2nd Street, SW., Calgary, Alberta T2P 1N8, Canada and Sandra E. Rizzo, Esq. Preston Gates Ellis, & Rouvelas Meeds, LLP, 1735 New York Avenue, NW., Suite 500, Washington, DC 20006.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by e-mailing Odessa Hopkins at Odessa.hopkins@hq.doe.gov.

Issued in Washington, DC, on August 17, 2006.
Anthony J. Como,
Director, Permitting and Siting Office of Electricity Delivery and Energy Reliability.

[FR Doc. E6-14044 Filed 8-23-06; 8:45 am]

BILLING CODE 6450-01-P